DEPARTMENT OF TRANSPORTATION

Federal Aviation Administration

14 CFR Part 91

[Docket No. FAA-2003-14766; SFAR 77]

Prohibition Against Certain Flights Within the Territory and Airspace of Iraq

AGENCY: Federal Aviation Administration (FAA), DOT.

ACTION: Final rule; technical amendment.

SUMMARY: This amendment corrects language in Special Federal Aviation Regulation (SFAR) No. 77, prohibition against certain flights within the territory and airspace of Iraq, to correspond to standard procedures used for permitted operations under the Federal Aviation Administration's authority for all similar SFAR's. This final rule informs the public of this minor change.

DATES: This action is effective April 8, 2003, and shall remain in effect until further notice.

FOR FURTHER INFORMATION CONTACT: David Catey, Air Transportation Division, Flight Standards Service, Federal Aviation Administration, 800 Independence Avenue, SW., Washington, DC 20591. Telephone: (202) 267-3732 or 267-8166.

SUPPLEMENTARY INFORMATION:

Availability of This Action

You can get an electronic copy of this final rule through the Internet by:

(1) Searching the Department of Transportation's electronic Docket Management System (DMS) web page (http://www.dms.dot.gov/search);

(2) Visiting the Office of Rulemaking's web page at http://www.faa.gov/avr/armhome.htm; or

(3) Accessing the Federal Register's web page at http://www.access.gpo.gov/su_docs/aces/aces140.html.

You may also obtain a paper copy of this document by submitting a request to the Federal Aviation Administration, Office of Rulemaking, ARM-1, 800 Independence Ave, SW., Washington, DC 20591, or by calling (202) 267-9680. You must identify the docket number (28691) of this action.

Background

SFAR 77 was issued October 16, 1996, as a safety precaution for flights over the territory of Iraq. The FAA now anticipates that when hostilities are ended, humanitarian efforts may be needed to assist the people of Iraq. In order to facilitate these humanitarian efforts, the FAA standardizes the language traditionally used for permitted operations over restricted flight areas.

The FAA amends SFAR 77 to eliminate a technical inaccuracy in the current SFAR, namely that another agency could allow persons covered by paragraph 1 to operate into Iraq without prior FAA approval. Because the FAA is responsible for the safety of U.S. air carriers, U.S. commercial operators, U.S. registered aircraft, and airmen relying on U.S. issued airman certificates, the FAA must be the final decisionmaker as to whether it is appropriate to waive the applicability of this SFAR in certain situations.

List of Subjects in 14 CFR Part 91

Air traffic control, Aircraft, Airmen, Airports, Aviation safety, Freight, Afghanistan.

The Amendment

For the reasons set forth above, the Federal Aviation Administration amends 14 CFR Part 91 as follows:

PART 91—GENERAL OPERATING AND FLIGHT RULES

1. The authority citation for Part 91 continues to read as follows:

Authority: 49 U.S.C. 106(g), 1155, 40103, 40113, 40120, 44101, 44701, 44709, 44711, 44712, 44715, 44716, 44717, 44722, 46306, 46315, 46316, 46504, 46506-46507, 47122, 47508, 47528-47531; Articles 12 and 29 of the Convention on International Civil Aviation (61 Stat. 1180).

2. Revise Section 3 of Special Federal Aviation Regulation (SFAR) No. 77 to read as follows:

SPECIAL FEDERAL AVIATION REGULATION NO. 77—PROHIBITION AGAINST CERTAIN FLIGHTS WITHIN THE TERRITORY AND AIRSPACE OF IRAQ

* * * * *

3. Permitted operations. This SFAR does not prohibit persons described in paragraph 1 from conducting flight operations within the territory and airspace of Iraq when such operations are authorized either by another agency of the United States Government with the approval of the FAA or by an exemption issued by the Administrator.

* * * * *

Issued in Washington, DC, on April 7, 2003.
Marion C. Blakey,
Administrator.

[FR Doc. 03-8947 Filed 4-8-03; 4:07 pm]

BILLING CODE 4910-13-P